DEPARTMENT OF THE INTERIOR

National Park Service

[N6483; NPS-WASO-NAGPRA-NPS0040991; PPWOCRADN0-PCU00RP14.R50000]

Notice of Inventory Completion: Mississippi Department of Archives and History, Jackson, MS

AGENCY: National Park Service, Interior.

ACTION: Notice.

SUMMARY: In accordance with the Native American Graves Protection and Repatriation Act (NAGPRA), the Mississippi Department of Archives and History (MDAH) has completed an inventory of human remains and has determined that there is a cultural affiliation between the human remains and Indian Tribes or Native Hawaiian organizations in this notice.

DATES: Repatriation of the human remains in this notice may occur on or after October 10, 2025.

ADDRESSES: Send written requests for repatriation of the human remains in this notice to Cindy Carter-Davis, Chief Archaeologist, Mississippi Department of Archives and History, Historic Preservation Division, 100 South State Street, P.O. Box 571, Jackson, MS 39205, email ccarterdavis@mdah.ms.gov.

SUPPLEMENTARY INFORMATION: This notice is published as part of the National Park Service's administrative responsibilities under NAGPRA. The determinations in this notice are the sole responsibility of the Mississippi Department of Archives and History and additional information on the determinations in this notice, including the results of consultation, can be found in its inventory or related records. The National Park Service is not responsible for the determinations in this notice.

Abstract of Information Available

Human remains representing, at least, three individuals have been identified from 22LE504 (MLe18), Lee County, MS. No associated funerary objects are present. Albert Spaulding conducted excavations at the site in 1939-1940 and discovered 13 burials. At an unknown point in time (likely in the 2000s), some of the remains were sent to the University of Alabama, although MDAH retained legal control.

Human remains representing, at least, one individual have been identified from 22LE524 (MLe18), Lee County, MS. No associated funerary objects are present. In 1937, Moreau B. Chambers excavated this site and discovered several burials. At an unknown point in time, this individual was sent to the University of Alabama, although MDAH retained legal control.

Human remains representing, at least, one individual have been identified from 22LE907 (ImmokaKina'Fa' site), Lee County, MS. No associated funerary objects are present. Burials were discovered during a salvage excavation at the site in 1996 by Mississippi State University. In 1998 the human remains were sent from the Cobb Institute of Archaeology to the University of Alabama. In 2025 legal control of the human remains were transferred to the MDAH by the Cobb Institute of Archaeology.

The MDAH has no record of any potentially hazardous substances used to treat the human remains listed in this notice.

Cultural Affiliation

Based on the information available and the results of consultation, cultural affiliation is reasonably identified by the geographical location or acquisition history of the human remains described in this notice.

Determinations

The Mississippi Department of Archives and History has determined that:

• The human remains described in this notice represent the physical remains of five individuals of Native American ancestry.

• There is a connection between the human remains and associated funerary objects described in this notice and The Chickasaw Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after October 10, 2025. If competing requests for repatriation are received, the Mississippi Department of Archives and History must determine the most appropriate requestor prior to repatriation. Requests for joint repatriation of the human remains are considered a single request and not competing requests. The Mississippi Department of Archives and History is responsible for sending a copy of this notice to the Indian Tribes and Native Hawaiian organizations identified in this notice and any other consulting parties.

Authority: Native American Graves Protection and Repatriation Act, 25 U.S.C. 3003, and the implementing regulations, 43 CFR 10.10.

Dated: August 21, 2025.
Melanie O'Brien,
Manager, National NAGPRA Program.

[FR Doc. 2025-17367 Filed 9-9-25; 8:45 am]

BILLING CODE 4312-52-P